DEPARTMENT OF ENERGY

Federal Energy Regulatory Commission

[Project No. 2361-056]

Allete, Inc.; Notice of Waiver Period for Water Quality Certification Application

On December 19, 2022, Allete, Inc. submitted to the Federal Energy Regulatory Commission (Commission) a copy of its application for a Clean Water Act section 401(a)(1) water quality certification filed with the Minnesota Pollution Control Agency (Minnesota PCA), in conjunction with the above captioned project. Pursuant to 40 CFR 121.6 and section 5.23(b) of the Commission's regulations,¹ we hereby notify the Minnesota PCA of the following:

¹ 18 CFR 5.23(b).

Date of Receipt of the Certification Request: December 14, 2022

Reasonable Period of Time To Act on the Certification Request: One year (December 14, 2023)

If the Minnesota PCA fails or refuses to act on the water quality certification request on or before the above date, then the agency certifying authority is deemed waived pursuant to section 401(a)(1) of the Clean Water Act, 33 U.S.C. 1341(a)(1).

Dated: December 21, 2022.
Kimberly D. Bose,
Secretary.

[FR Doc. 2022-28254 Filed 12-27-22; 8:45 am]

BILLING CODE 6717-01-P